DEPARTMENT OF AGRICULTURE

Food Safety and Inspection Service

[Docket No. FSIS-2007-0042]

Codex Alimentarius Commission: Meeting of the Codex Committee on Food Import and Export Inspection and Certification Systems

AGENCY: Office of the Under Secretary for Food Safety, USDA.

ACTION: Notice of public meeting.

SUMMARY: The Office of the Under Secretary for Food Safety, United States Department of Agriculture, and the U.S. Department of Health and Human Services, Food and Drug Administration (FDA), are sponsoring a public meeting. The meeting will be held on November 1, 2007, 1 p.m.-3 p.m. to discuss the agenda items coming before the 16th Session of the Codex Committee on Food Import and Export Inspection and Certification Systems (CCFICS) and present draft positions on the agenda items. The 16th Session of the CCFICS will be held November 26-November 30, 2007, in Queensland, Australia. The Under Secretary and FDA recognize the importance of providing interested parties the opportunity to comment on the agenda items that will be debated at this forthcoming Session of the CCFICS.

DATES: The public meeting is scheduled for Thursday, November 1, 2007, from 1 p.m. to 3 p.m.

ADDRESSES: The public meeting will be held in Room 0161 of the South Agriculture Building, 1400 Independence Avenue, SW., Washington, DC (Smithsonian Metro stop). Documents related to the 16th Session of the CCFICS will be accessible via the World Wide Web at the following address: http://www.codexalimentarius.net/current.asp.

The U.S. Delegate to the 16th Session of CCFICS, Dr. Catherine Carnevale, Director, Office of Constituent Operations, Center for Food Safety and Applied Nutrition (CFSAN), FDA, invites U.S. interested parties to submit their comments electronically to Dr. Michael Wehr, Acting Deputy Director, Codex Program Coordinator, International Affairs Staff, CFSAN, FDA, E-mail address: michael.wehr@fda.hhs.gov.

FOR FURTHER INFORMATION ABOUT THE PUBLIC MEETING CONTACT: Edith Kennard, Staff Officer, U.S. Codex Office, Food Safety and Inspection Service, Room 4861, South Building, 1400 Independence Avenue, SW., Washington, DC 20250, Phone: (202) 720-5261, Fax: (202) 720-3157, E-mail: edith.kennard@fsis.usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFICS was established to develop principles and guidelines for food import and export inspection and certification systems to facilitate trade through harmonization and to supply safe and quality foods to consumers. Included in the charge is application of measures by competent authorities to provide assurance that foods comply with essential requirements. The Committee is hosted by the government of Australia.

Issues To Be Discussed at the Public Meeting

Draft Provisional Agenda items to be discussed at the public meeting:

• Matters Referred to the Committee by the Codex Alimentarius Commission and Other Codex Committees and Task Forces

• Proposed Draft Appendix to the Guidelines on the Judgement of Equivalence of Sanitary Measures Associated with Food Inspection and Certification at Step 4

• Discussion Paper on the Need to Revise the Codex Alimentarius Commission/Guideline (CAC/GL) 20-1995 and CAC/GL 26-1997

• Discussion Paper on the Need for Guidance for National Food Inspection Systems

• Discussion Paper on the Development of Guidelines for the Conduct of Foreign Audit Team Inspections

• Discussion Paper on the Need for Further Guidance on Traceability/Product Tracing

• Consistency of the Draft Model Export Certificate for Milk and Milk Products with CAC/GL 38-2001

• Other Business and Future Work: Discussion Paper on the Development of a Generic Template for Health Certificates

Each issue listed will be fully described in documents distributed, or to be distributed, by the Codex Secretariat. Members of the public may access these documents via the World Wide Web at the following address: http://www.codexalimentarius.net/current.asp.

Public Meeting

At the November 1, 2007, public meeting, the agenda items coming before the 16th Session of the CCFICS will be discussed and attendees will have the opportunity to pose questions and offer comments. Written comments may be offered at the meeting or sent to the U.S. Delegate for the 16th Session of the CCFICS, Dr. Catherine Carnevale (see ADDRESSES). Written comments should state that they relate to activities of the 16th Session of the CCFICS.

Additional Public Notification

Public awareness of all segments of rulemaking and policy development is important. Consequently, in an effort to ensure that minorities, women, and persons with disabilities are aware of this notice, FSIS will announce it online through the FSIS Web page located at http://www.fsis.usda.gov/regulations/2007_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through Listserv and the Web page, FSIS is able to provide information to a much broader and more diverse audience. In addition, FSIS offers an electronic mail subscription service which provides automatic and customized access to selected food safety news and information. This service is available at http://www.fsis.usda.gov/news_and_events/e-mail_subscription/. Options range from recalls to export information to regulations, directives and notices. Customers can add or delete subscriptions themselves, and have the option to password protect their accounts.

Done at Washington, DC, on October 23, 2007.
F. Edward Scarbrough,
U.S. Manager for Codex Alimentarius.

[FR Doc. E7-21142 Filed 10-26-07; 8:45 am]

BILLING CODE 3410-DM-P